DEPARTMENT OF ENERGY

Federal Energy Regulatory Commission

Combined Notice of Filings #1

Take notice that the Commission received the following electric rate filings:

Docket Numbers: ER15-879-001.

Applicants: Southwest Power Pool, Inc.

Description: Tariff Amendment per 35.17(b): 2446R1 Substitute Municipal Energy Agency of Nebraska NITSA and NOA to be effective 12/1/2014.

Filed Date: 3/17/15.

Accession Number: 20150317-5068.

Comments Due: 5 p.m. ET 4/7/15.

Docket Numbers: ER15-1026-001.

Applicants: Utah Red Hills Renewable Park, LLC.

Description: Tariff Amendment per 35.17(b): Amendment to Application for Market-Based Authorization to be effective 5/1/2015 under ER15-1026 Filing Type: 120.

Filed Date: 3/13/15.

Accession Number: 20150313-5179.

Comments Due: 5 p.m. ET 3/27/15.

Docket Numbers: ER15-1295-000.

Applicants: PJM Interconnection, L.L.C.

Description: § 205(d) rate filing per 35.13(a)(2)(iii): Queue No. Z2-014; Service Agreement No. 2971 to be effective 2/13/2015.

Filed Date: 3/16/15.

Accession Number: 20150316-5210.

Comments Due: 5 p.m. ET 4/6/15.

Docket Numbers: ER15-1296-000.

Applicants: Southern California Edison Company.

Description: § 205(d) rate filing per 35.13(a)(2)(iii): Amended IFA and Distribution Service Agmt Tesoro Refining & Marketing Company to be effective 3/17/2015.

Filed Date: 3/17/15.

Accession Number: 20150317-5001.

Comments Due: 5 p.m. ET 4/7/15.

Docket Numbers: ER15-1304-000.

Applicants: Southwest Power Pool, Inc.

Description: § 205(d) rate filing per 35.13(a)(2)(iii): 2994 KMEA/Sunflower Facilities Construction Agreement to be effective 2/20/2015.

Filed Date: 3/17/15.

Accession Number: 20150317-5030.

Comments Due: 5 p.m. ET 4/7/15.

Docket Numbers: ER15-1305-000.

Applicants: Southwestern Electric Power Company.

Description: § 205(d) rate filing per 35.13(a)(2)(iii): AECC Bates Tap Delivery Point Agreement to be effective 2/23/2015.

Filed Date: 3/17/15.

Accession Number: 20150317-5048.

Comments Due: 5 p.m. ET 4/7/15.

Docket Numbers: ER15-1306-000.

Applicants: Southwestern Electric Power Company.

Description: § 205(d) rate filing per 35.13(a)(2)(iii): AECC Barite Road Tap Delivery Point Agreement to be effective 2/26/2015.

Filed Date: 3/17/15.

Accession Number: 20150317-5050.

Comments Due: 5 p.m. ET 4/7/15.

Docket Numbers: ER15-1307-000.

Applicants: AEP Texas Central Company.

Description: § 205(d) rate filing per 35.13(a)(2)(iii): TCC-La Paloma Energy Center IA First Amend & Restated to be effective 2/26/2015.

Filed Date: 3/17/15.

Accession Number: 20150317-5055.

Comments Due: 5 p.m. ET 4/7/15.

Take notice that the Commission received the following electric securities filings:

Docket Numbers: ES15-13-000.

Applicants: Midcontinent Independent System Operator, Inc.

Description: Section 204 Application of Midcontinent Independent System Operator, Inc.

Filed Date: 3/17/15.

Accession Number: 20150317-5140.

Comments Due: 5 p.m. ET 4/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2015.
Nathaniel J. Davis, Sr.,
Deputy Secretary.

[FR Doc. 2015-06598 Filed 3-23-15; 8:45 am]

BILLING CODE 6717-01-P